DEPARTMENT OF ENERGY

Federal Energy Regulatory Commission

[Docket No. CP04-58-003]

Sound Energy Solutions; Notice of Amendment of Application

September 20, 2004.

Take notice that on September 8, 2004, Sound Energy Solutions (SES) filed, pursuant to section 3(a) of the Natural Gas Act and Part 153 of the Commission's regulations, an amendment to its January 26, 2004 application in Docket No. CP04-58-000. The January 26, 2004 application requests authorization to site, construct, and operate an liquefied natural gas (LNG) import terminal in the Port of Long Beach, California. In SES's amendment in Docket No. CP04-58-003, it requests authorization to construct, own and operate a 2.3-mile, 36-inch diameter pipeline which will connect its proposed LNG terminal facilities to the natural gas pipeline facilities of the Southern California Gas Company (SoCal Gas).

The proposed 2.3-mile pipeline will connect to SoCal Gas's existing Line 765 at SoCal Gas's Salt Works Station in the Port of Los Angeles, California. In SES's January 26, 2004 application, it did not specifically include the 2.3-mile pipeline as part of its request for authorization before the Commission. However, the amendment includes a description and references to all the places in the supporting environmental information filed in SES January 26, 2004 application which pertains to the 2.3-mile pipeline.

This amendment is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding this amendment should be directed to Ms. Tetsuko Egawa, Assistant Director, Development, Sound Energy Solutions, 301 East Ocean Boulevard, Suite 1510, Long Beach, CA 90802.

Any person who is a party to SES's proceeding in Docket No. CP04-58-000 is automatically a party to SES's proceeding as amended by Docket No. CP04-58-003. Otherwise, there are two ways to become involved in the Commission's review of this amendment. First, any person (who is not already a party in the proceeding) wishing to obtain legal status by becoming a party to the proceedings for this amendment should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding in Docket No CP04-58-000. Only parties to the proceeding can ask for court review of Commission orders in the proceeding.

However, a person does not have to intervene in order to have comments considered concerning the amendment. The second way to participate is by filing with the Secretary of the Commission, as soon as possible, an original and two copies of comments in support of or in opposition to this amendment. The Commission will consider these comments in determining the appropriate action to be taken, but the filing of a comment alone will not serve to make the filer a party to the proceeding. The Commission's rules require that persons filing comments in opposition to the amendment provide copies of their protests only to the party or parties directly involved in the protest.

Persons who wish to comment only on the environmental review of this amendment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see 18 CFR 385.2001(a)(1)(iii) and the instructions on the Commission's Web site under the “e-Filing” link. The Commission strongly encourages electronic filings.

Comment Date: October 7, 2004.

Magalie Salas,
Secretary.

[FR Doc. E4-2378 Filed 9-24-04; 8:45 am]

BILLING CODE 6717-01-P